ENVIRONMENTAL PROTECTION AGENCY

[FRL-7091-6]

Agency Information Collection Activities: Request for Comments on the Fourteen Proposed Information Collection Requests (ICRs) Listed Under Supplementary Information, Section A

AGENCY: Environmental Protection Agency (EPA).

ACTION: Notice.

SUMMARY: In compliance with the Paperwork Reduction Act (44 U.S.C. 3501 et seq.), this document announces that EPA is planning to submit the fourteen continuing Information Collection Requests (ICRs) listed in section A of this notice to the Office of Management and Budget (OMB). Before submitting the ICRs to OMB for review and approval, EPA is soliciting comments on specific aspects of the information collections as described at the beginning of the Supplementary Information provided in this notice.

DATES: Comments must be submitted on or before December 28, 2001.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling the identified information contact person listed in section B under Supplementary Information.

FOR FURTHER INFORMATION CONTACT: For specific information on an individual ICR, contact the person listed in section B under Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who respond through the use of automated, electronic, mechanical, or other forms of information technology.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In the absence of such information collection requirements, enforcement personnel would be unable to determine whether the standards are being met on a continuous basis, as required by the Clean Air Act. Consequently, these information collection requirements are mandatory, and the records required by New Source Performance Standards (NSPS) must be retained by the owner or operator for at least two years; records required by the National Emission Standards for Hazardous Air Pollutants (NESHAP) must be retained by the owner or operator for at least five years; and records required by the NESHAP Maximum Achievable Control Technology standards (NESHAP-MACT) must be retained by the owner or operator for at least five years. In general, the required information consists of emissions data and other information deemed not to be private. However, any information submitted to the Agency for which a claim of confidentiality is made will be safeguarded according to the Agency policies set forth in Title 40, chapter 1, part 2, subpart B—Confidentiality of Business Information (see 40 CFR part 2; 41 FR 36902, September 1, 1976; amended by 43 FR 39999, September 8, 1978; 43 FR 42251, September 28, 1978; 44 FR 17674, March 2, 1979).

The Agency computed the burden for each of the recordkeeping and reporting requirements applicable to the industry for the currently approved Information Collection Requests (ICRs). Where applicable, the Agency identified specific tasks and made assumptions, while being consistent with the concept of the Paper Work Reduction Act.

Section A: List of ICRs To Be Submitted for OMB Review and Approval

In compliance with the Paperwork Reduction Act (44 U.S.C. 3501 et seq.), this notice announces that EPA is planning to submit the following fourteen continuing Information Collection Requests (ICRs) to the Office of Management and Budget (OMB).

(1) NSPS Subparts Ea and Eb: NSPS for Municipal Waste Combustors (Subparts Ea and Eb); EPA ICR Number 1506.09; OMB Control Number 2060-0210; expiration date March 31, 2002.

(2) NSPS Subpart LL: NSPS for Metallic Mineral Processing Plants (Subpart LL); EPA ICR Number 0982.07; OMB Control Number 2060-0016; expiration date July 31, 2002.

(3) NESHAP-MACT Subpart TTT: NESHAP—Primary Lead Smelting; EPA ICR Number 1856.03; OMB Control Number 2060-0414; expiration date July 31, 2002.

(4) NESHAP-MACT Subpart CCC: NESHAP—Steel Pickling; EPA ICR Number 1821.03; OMB Control Number 2060-0419; expiration date July 31, 2002.

(5) NESHAP-MACT Subpart LLL: NESHAP for the Portland Cement Manufacturing Industry; EPA ICR Number 1801.03; OMB Control Number 2060-0416; expiration date August 31, 2002.

(6) NESHAP Subpart N: NESHAP for Inorganic Arsenic Emissions from Glass Manufacturing Plants (Part 61, Subpart N); EPA ICR Number 1081.07; OMB Control Number 2060-0043; expiration date August 31, 2002.

(7) NSPS Subpart H: NSPS for Sulfuric Acid Plants (Subpart H); EPA ICR Number 1057.09; OMB Control Number 2060-0041; expiration date August 31, 2002.

(8) NSPS Subpart UUU: NSPS for Calciners and Dryers in Mineral Industries (Subpart UUU); EPA ICR Number 0746.05; OMB Control Number 2060-0251; expiration date August 31, 2002.

(9) NSPS Subpart VV: NSPS for volatile organic compounds (VOCs) in the Synthetic Chemical Manufacturing Industry (SOCMI)—40 CFR part 60, subpart VV; EPA ICR Number 0662.07; OMB Control Number 2060-0012; expiration date August 31, 2002.

(10) NSPS Subparts N and Na: NSPS for Iron and Steel Plants—Basic Oxygen Furnaces (Subparts N and Na); EPA ICR Number 1069.07; OMB Control Number 2060-0029; expiration date September 31, 2002.

(11) NSPS Subpart XX: NSPS for Bulk Gasoline Terminals (Subpart XX); EPA ICR Number 0664.07; OMB Number 2060-0006; expiration date September 30, 2002.

(12) NSPS Subpart DDD: NSPS for the Polymer Manufacturing Industry (Subpart DDD); EPA ICR Number 1150.06; OMB Control Number 2060-0145; expiration date September 30, 2002.

(13) NESHAP-MACT Subpart YY: National Emission Standards for Hazardous Air Pollutants—Generic Maximum Achievable Control Technology Standards; EPA ICR Number 1871.03; OMB Control Number 2060-0420; expiration date September 30, 2002.

(14) NSPS Subpart CC: NSPS for Glass Manufacturing Plants (40 CFR part 60, subpart CC); EPA ICR Number 1131.07; OMB Control Number 2060-0054; expiration date October 31, 2002.

Section B: Contact Person for Individual ICRs

(1) NSPS Subparts Ea and Eb: NSPS for Municipal Waste Combustors (Subparts Ea and Eb); Jonathan Binder of the Compliance Assistance Policy and Integration Branch at (202) 564-2516 or via E-mail to binder.jonathan@epa.gov; EPA ICR Number 1506.09; OMB Control Number 2060-0210; expiration date March 31, 2002.

(2) NSPS Subpart LL: NSPS for Metallic Mineral Processing Plants (Subpart LL); Gregory Fried of the Air, Hazardous Waste and Toxics Branch at (202) 546-7016 or via E-mail at fried.gregory@epa.gov; EPA ICR Number 0982.07; OMB Control Number 2060-0016; expiration date July 31, 2002.

(3) NESHAP-MACT Subpart TTT: NESHAP-Primary Lead Smelting; contact Maria Malave of the Air, Hazardous Waste and Toxics Branch at (202) 564-7027 or via E-mail to malave.maria@epa.gov; EPA ICR Number 1856.03; OMB Control Number 2060-0414; expiration date July 31, 2002.

(4) NESHAP-MACT Subparts CCC: NESHAP-Steel Pickling; contact Maria Malave of the Air, Hazardous Waste and Toxics Branch at(202) 564-7027 or via E-mail to malave.maria@epa.gov; EPA ICR Number 1821.03; OMB Control Number 2060-0419; expiration date July 31, 2002.

(5) NESHAP-MACT Subpart LLL: NESHAP for the Portland Cement Manufacturing; Gregory Fried of the Air, Hazardous Waste and Toxics Branch at (202) 546-7016 or via E-mail at fried.gregory@epa.gov; EPA ICR Number 1801.03; OMB Control Number 2060-0416; expiration date August 31, 2002.

(6) NESHAP Subpart N: NESHAP for Inorganic Arsenic Emissions from Glass Manufacturing Plants (Part 61, Subpart N); Gregory Fried of the Air, Hazardous Waste and Toxics Branch at (202) 546-7016 or via E-mail at fried.gregory@epa.gov; EPA ICR Number 1081.07; OMB Control Number 2060-0043; expiration date August 31, 2002.

(7) NSPS Subpart H: NSPS for Sulfuric Acid Plants (Subpart H); Marcia Mia of the Air, Hazardous Waste and Toxics Branch at (202) 564-7042 or via E-mail at mia.marcia@epa.gov; EPA ICR Number 1057.09; OMB Control Number 2060-0041; expiration date August 31, 2002.

(8) NSPS Subpart UUU: NSPS for Calciners and Dryers in Mineral Industries (Subpart UUU); Gregory Fried of the Air, Hazardous Waste and Toxics Branch at (202) 546-7016 or via E-mail at fried.gregory@epa.gov; EPA ICR Number 0746.05; OMB Control Number 2060-0251; expiration date August 31, 2002.

(9) NSPS Subpart VV: NSPS for volatile organic compounds (VOCs) in the Synthetic Chemical Manufacturing Industry (SOCMI)-40 CFR part 60, subpart VV; Marcia Mia of the Air, Hazardous Waste and Toxics Branch at (202) 564-7042 or via E-mail at mia.marcia@epa.gov; EPA ICR Number 0662.06; OMB Control Number 2060-0012; expiration date August 31, 2002.

(10) NSPS Subparts N and Na: NSPS for Iron and Steel Plants-Basic Oxygen Furnaces (Subparts N and Na); Maria Malave of the Air, Hazardous Waste and Toxics Branch at (202) 564-7027 or via E-mail to malave.maria@epa.gov; EPA ICR Number 1069.07; OMB Control Number 2060-0029; expiration date September 31, 2002.

(11) NSPS Subpart XX: NSPS for Bulk Gasoline Terminals (Subpart XX); Julie Tankersley of the Compliance Monitoring and Water Programs Branch at (202) 564-7002 or via E-mail to tankersley.julie@epa.gov; EPA ICR Number 0664.07; OMB Number 2060-0006; expiration date September 30, 2002.

(12) NSPS Subpart DDD: NSPS for the Polymer Manufacturing Industry (Subpart DDD); Sally Sasnett, of the Sector Analysis and Implementation Branch, (202) 564-7074 or via E-mail at sasnett.sally@epa.gov; EPA ICR Number 1150.06; OMB Control Number 2060-0145; expiration date September 30, 2002.

(13) NESHAP-MACT Subpart YY: National Emission Standards for Hazardous Air Pollutants-Generic Maximum Achievable Control Technology Standards; Sally Harmon of the Air, Hazardous Waste and Toxics Branch at (202) 564-7012 or via E-mail at harmon.sally@epa.gov; EPA ICR Number 1871.03; OMB Control Number 2060-0420; expiration date September 30, 2002.

(14) NSPS Subpart CC: NSPS for Glass Manufacturing Plants (40 CFR part 60, subpart CC); Gregory Fried of the Air, Hazardous Waste and Toxics Branch at (202) 546-7016 or via email at fried.gregory@epa.gov; EPA ICR Number 1131.07; OMB Control Number 2060-0054; expiration date October 31, 2002.

Section C: Summaries of Individual ICRs

(1) NSPS Subparts Ea and Eb: NSPS for Municipal Waste Combustors (Subparts Ea and Eb); EPA ICR Number 1506.09; OMB Control Number 2060-0210; expiration date March 31, 2002.

Affected Entities: Entities potentially affected by this action are those municipal waste combustors (MWCs) subject to the standards at 40 CFR part 60, subparts Ea and Eb for which: (1) Construction commenced after December 20, 1989 and on or before September 20, 1994, or (2) modification or reconstruction commenced after December 20, 1989 and on or before June 19, 1996. Entities potentially affected by this action under 40 CFR part 60, subpart Eb are those MWCs for which: (1) construction commenced after September 20, 1994, or (2) modification or reconstruction commenced after June 19, 1996. Both of these standards apply to MWCs with unit capacities greater than 225 megagrams per day.

Abstract: The Agency has determined that emissions from MWCs cause or contribute to air pollution that may reasonably be anticipated to endanger public health or welfare. NSPS subparts Ea and Eb require owners and operators with unit capacity above 225 megagrams per day to notify the Agency of the date of construction or reconstruction, the anticipated and actual startup dates, and notification of any physical or operation change to an existing facility which may increase the regulated pollutant emission rate. Owners and operators are also required to maintain records of the occurrence and duration of the startup, shutdown, or malfunction in the operation of an affected facility. Facilities subject to subpart Ea must install continuous monitoring systems (CMS) to monitor specified operating parameters to ensure that good combustion practices are implemented on a continuous basis. Owners and operators must submit quarterly and annual compliance reports. In addition, reporting and recordkeeping requirements for facilities subject to subpart Eb include information on cadmium, lead and mercury pollutants, and fugitive ash emissions testing and MWC siting requirements.

Burden Statement: In the previously approved ICR, the estimated number of respondents for this information collection was 40 with 212 responses per year. The annual reporting and recordkeeping hour burden for this collection was estimated to be 70,730 hours. On the average, each respondent reported 5.3 times per year and 334 hours were spent preparing each response. The total annual reporting and recordkeeping cost burden for this collection was $563,010. This represented a $240,000 burden associated with capital/startup cost and a $323,010 burden associated with the annual operation and maintenance cost.

(2) NSPS Subpart LL: NSPS for Metallic Mineral Processing Plants (Subpart LL); EPA ICR Number 0982.07; OMB Control Number 2060-0016; expiration date July 31, 2001.

Affected Entities: Entities potentially affected by this action are those metallic mineral processing plants subject to the standards at 40 CFR part 60, subpart LL and include the following processes: each crusher and screen (open-pit mines); each crusher, screen, bucket, elevator, conveyor belt transfer point, thermal dryer, product packaging station, storage bin, enclosed storage area, truck loading and unloading station at a mill or concentrator which commenced construction, modification or reconstruction after August 24, 1992. The NSPS does not apply to facilities located in underground mines, or to facilities performing the beneficiation of uranium ore at uranium ore processing plants.

Abstract: The Agency has determined that particulate matter from metallic mineral processing plants cause, or contribute significantly to air pollution that may reasonably be anticipated to endanger public health or welfare. Owners or operators of the affected facilities must make initial notifications, including notification of any physical or operational change to an existing facility which may increase the regulated pollutant emission rate, notification of the demonstration of the continuous monitoring system (CMS), and notification of the initial performance test. Owners or operators are also required to maintain records of the occurrence and duration of any startup, shutdown, or malfunction in the operation of an affected facility, or any period during which a monitoring system is inoperative.

Semiannual emission reports and monitoring systems performance reports are required. The reports include a record of any exceedance, description of the nature and cause of the problem, corrective measures taken, and identification of the period during which any CMS was inoperative.

Burden Statement: In the previously approved ICR, the average annual burden to industry was estimated to be 1,760 hours. The estimated number of existing sources subject to the NSPS for metallic mineral processing was 22. The total number of annual responses required by this regulation was estimated to be 44. Therefore, the frequency of response was 2.0 times per year with an average of 40 hours spent preparing each response.

The average annual operations and maintenance cost associated with this regulation was estimated to be $14,300. No capital costs were calculated because no new sources were expected to become subject to the standard over the three-year period covered by the ICR.

(3) NESHAP—MACT Subpart TTT: NESHAP—Primary Lead Smelting; EPA ICR Number 1856.03; OMB Control Number 2060-0414; expiration date July 31, 2002.

Affected Entities: Entities potentially affected by this action are those sinter machine, blast furnace, dross furnace, process fugitive, and fugitive dust sources at primary lead smelters subject to the standards at 40 CFR part 63, subpart TTT.

Abstract: The Agency has determined that emissions from primary lead smelters cause, or contribute significantly to air pollution that may reasonably be anticipated to endanger public health or welfare. All sources subject to this standard are required to submit: an initial report specifying the intended methods of compliance; a site-specific test plan prior to a performance test; certain Standard Operating Procedure Manuals; an initial statement of compliance that delineates the compliance methods chosen; a performance test report for lead compounds; and semiannual reports that include all monitoring results and a summary of any baghouse leak detector system alarms including a description of the corrective actions taken. Respondents must also submit reports, when applicable, regarding startup, shutdown, malfunctions, process changes, and construction or reconstruction.

In addition to the records required by 40 CFR part 63, subpart A (General Provisions), all respondents must maintain records of production for unrefined lead, copper matte, and copper speiss; the date and times of bag leak detector system alarms and the corrective action taken; and of baghouse inspection and maintenance activities.

Burden Statement: In the previously approved ICR, the reporting and recordkeeping hour burden for the information collection was 2,002 hours per year based on 3 existing respondents. The frequency of the response, except for initial requirements, is semiannual. The number of responses in the currently approved ICR is 6. Therefore, the number of hours, on the average, to prepare each response was 334. On the OMB 83-I Form in the previous ICR, 13 initial notification responses that were listed in the supporting statement were not shown in Block 13. So the correct number of responses for the previously approved ICR should have been 19 rather than 6.

The total annual recordkeeping and cost burden over the three-year period of the previously approved ICR is approximately $40,500 with $35,000 attributed to capital/startup costs and $5,500 to operation and maintenance (O&M) costs. Since no new sources are expected to startup over the next three years, the total projected annual recordkeeping and cost burden over the next three years is estimated to be $5,500 per year for O&M costs.

(4) NESHAP-MACT Subpart CCC: NESHAP—Steel Pickling; EPA ICR Number 1821.03; OMB Control Number 2060-0419; expiration date July 31, 2002.

Affected Entities: The entities affected by this standard are new and existing carbon steel pickling facilities which are subject to the standards at 40 CFR part 63, subpart CCC. The affected sources include batch and continuous pickling lines, acid regeneration plants, and acid storage tanks.

Abstract: The Agency has determined that emissions from steel pickling cause, or contribute significantly to air pollution that may reasonably be anticipated to endanger public health or welfare. In accordance with the 40 CFR part 63, subpart A (General Provisions), respondents must submit a one-time notification of applicability and a one-time report on the performance test results for the primary emission control device. Respondents must develop and implement a Startup, Shutdown, and Malfunction Plan and submit semiannual reports for any occurrence where the procedures in the plan were not followed. Respondents are also required to submit semiannual reports for periods of operation during which the measured emissions exceeded that allowed by the standard and provide a written maintenance plan for each emission control device.

Respondents must also demonstrate compliance with the hydrochloric acid and chorine emission limitations and the requirements for each pickling line and acid regeneration plant by performing annual performance tests and installing devices to measure/record control device outputs and acid regeneration plant operating parameters.

Burden Statement: In the previously approved ICR, the total annual recordkeeping and reporting hourly burden was estimated at 23,190 hours. This estimate was based on 70 respondents with 1 new affected facility becoming subject to the standard over the three-year period. Based on the supporting data provided in the supporting statement of the previous ICR, the total annual responses averaged 47 per year. However, the OMB 83-I Form indicates that the total annual number of responses is 23 which was improperly calculated when compared to the supporting statement. The frequency of response should have been 0.7 responses per year rather than 0.3. Over the next three years, the reporting requirements will be semiannual, so the frequency of reporting will increase to 2.0 per respondent-year.

The annual reporting and recordkeeping cost burden was $15,687 per year. The capital/startup cost for monitoring devices was $8,217 averaged over the first three years of the ICR. The annualized cost of capital equipment is based on 80 percent of facilities purchasing monitoring equipment, and on an equipment lifetime of 15 years, an interest rate of 7 percent, and a capital recovery factor of 0.11. The operation and maintenance costs were estimated at $7,470 per year (averaged over the three-year period).

(5) NESHAP-MACT Subpart LLL: NESHAP for the Portland Cement Manufacturing Industry; EPA ICR Number 1801.03; OMB Control Number 2060-0416; expiration date August 31, 2002.

Affected Entities: Entities potentially affected by this action are those emission sources at new and existing portland cement plants subject to the standards at 40 CFR part 63, subpart LLL.

Abstract: The Agency has determined that emissions from portland cement plants contribute significantly to air pollution that may reasonably be anticipated to endanger public health or welfare. The standard applies to each new, existing or reconstructed kiln, in-line kiln/raw mill and greenfield raw material dryer at portland cement plants, except for kilns and in-line kiln/raw mills that burn hazardous waste which are subject to 40 CFR part 63, subpart EEE. In addition, the standard applies to each new, existing or reconstructed clinker cooler, raw mill, finish mill, raw material, clinker or finished product storage bin; conveying system transfer point; bagging system and bulk loading and unloading system at facilities which are major sources; and to each existing, reconstructed or new brownfield raw material dryer at facilities which are major sources.

Respondents shall submit notifications and reports of the initial performance test results. Plants must develop and implement a Startup, Shutdown, and Malfunction Plan and submit semiannual reports of any event where the plan was not followed. Plants must develop and implement an operations and maintenance plan and conduct and report the results of an annual combustion system inspection. Semiannual reports for periods of operation during which the monitoring parameters are exceeded (or reports certifying that no exceedances have occurred) also are required.

General requirements applicable to all NESHAP require records of applicability determinations; test results; exceedances; periods of startups, shutdowns, or malfunctions; monitoring records; and any other information needed to determine compliance with the applicable standard.

Subpart LLL requires respondents to install (where feasible) continuous opacity monitors and temperature monitoring systems on kilns and in-line kiln raw mills, and total hydrocarbon continuous emission monitors (CEMs) on new greenfield kilns, in-line kiln/raw mills and raw material dryers. Owners and operators are also subject to a deferred requirement to install particulate matter CEMS. Respondents are also required to maintain records of specific information needed to determine that the standards are being achieved and maintained.

Burden Statement: In the previously approved ICR, the average annual burden to industry for the last three years was estimated at 77,331 hours per year for 36 respondents (i.e., sources). The total number of annual responses required by this regulation was estimated to be 954. Thus, the frequency of response was estimated to be 27 responses per year with an average of 81 hours spent preparing each response.

In the previously approved ICR, the total capital/startup cost associated with monitoring equipment was estimated at $1,432,000 per year. This corresponds to an average annualized capital cost of $750,000 per year for the three years following promulgation. Annual operation and maintenance costs averaged $682,000 per year.

(6) NESHAP Subpart N: NESHAP for Inorganic Arsenic Emissions from Glass Manufacturing Plants (Part 61, Subpart N); EPA ICR Number 1081.07; OMB Control Number 2060-0043; expiration date August 31, 2002.

Affected Entities: Entities potentially affected by this action are each glass melting furnace that uses commercial arsenic as a raw material that is subject to the standards at 40 CFR part 61, subpart N.

Abstract: The Administrator has judged that arsenic emissions from glass manufacturing plants cause or contribute to air pollution that may reasonably be anticipated to endanger public health or welfare. Sources subject to NESHAP subpart N are required to demonstrate initial compliance through emission tests. In addition, a continuous monitoring system (CMS) for the measurement of the opacity of emissions from any control device must be installed and operated. The regulation also requires initial notifications for construction, modification, CMS demonstration, and performance testing. Owners or operators are also required to maintain records of the occurrence and duration of any startup, shutdown, or malfunction in the operation of an affected facility, or any period during which the monitoring system is inoperative. Monitoring requirements specific to this regulation provide information on the operation of the emissions control device and compliance with the emission limit. Records and reports addressing each approved control device bypass are required. Arsenic emission estimates and semiannual reports of uncontrolled arsenic emissions are also required.

Burden Statement: In the previously approved ICR, the average annual burden to industry over the past three years from these recordkeeping and reporting requirements was estimated at 6,769 hours per year with 47 sources subject to the standard. The total number of annual responses required by this regulation was estimated to be 43. The annual reporting and recordkeeping burden for the collection of information was estimated to average approximately 157 hours per response, and the frequency of response was estimated to be 0.9 responses per year.

In the previously approved ICR, there were no capital/startup costs because no new sources were expected to startup during the ICR renewal period. The annual operation and maintenance cost for the 47 existing sources was estimated to be $164,500.

(7) NSPS Subpart H: NSPS for Sulfuric Acid Plants (Subpart H); EPA ICR Number 1057.09; OMB Control Number 2060-0041; expiration date August 31, 2002.

Affected Entities: Entities potentially affected by this action are those contact sulfuric acid plants that burn elemental sulfur, alkylation acid, hydrogen sulfide, organic sulfides, mercaptans, or acid sludge subject to the standards at 40 CFR part 60, subpart H. The standards do not address facilities where conversion to sulfuric acid is used primarily as a means of preventing emissions to the atmosphere of sulfur dioxide or other sulfur compounds.

Abstract: In the Administrator's judgment, sulfur dioxide (SO2) and acid mist emissions from sulfuric acid plants cause or contribute to air pollution that may reasonably be anticipated to endanger public health or welfare. Owners or operators of the affected facilities described must make the following one-time-only reports: notification of the date of construction or reconstruction; notification of the anticipated and actual dates of startup; notification of any physical or operational change to an existing facility which may increase the regulated pollutant emission rate; notification of demonstration of the continuous monitoring system (CMS); notification of the date of the initial performance test, and the results of the initial performance test. Owners or operators are also required to maintain records of the occurrence and duration of any startup, shutdown, or malfunction in the operation of an affected facility, or any period during which the monitoring system is inoperative.

The reporting requirements for this industry include the initial notifications listed, the initial performance test results, and semiannual reports of excess emissions. Excess emission reports shall include all three-hour periods (or the arithmetic average of three consecutive one-hour periods) during which the integrated average SO2 emission exceeded the applicable standard. Excess emission reports must include: the magnitude of excess emissions; conversion factors used; the date and time of commencement and completion of each excess emission time period; identification of excess emissions occurring during startups, shutdowns, and malfunctions; the nature and cause of the malfunction and corrective measures taken; and identification of the time period during which the CEMS was inoperative.

The reporting requirements include semiannual excess emission reports and monitoring system performance reports which include information regarding the exceedances of control device operating parameters; the date and time of the exceedance or deviance; the nature and cause of the malfunction and corrective measures taken; and identification of the time period during which the CMS was inoperative.

Burden Statement: In the previously approved ICR, the projected hour burden was 24,823. The number of respondents was 106. The total number of annual responses was estimated to be 212 which is a reporting frequency of 2 times per year with an average of 117 hours spent preparing each response.

The annual reporting and recordkeeping cost burden was estimated to be $477,000 for the operation and maintenance of the required SO2 monitors.

(8) NSPS Subpart UUU: NSPS for Calciners and Dryers in Mineral Industries (Subpart UUU); EPA ICR Number 0746.05; OMB Control Number 2060-0251; expiration date August 31, 2002

Affected Entities: Entities potentially affected by this action are each calciner or dryer at a mineral processing plant subject to the standards at 40 CFR part 60, subpart UUU. The standards apply to new, modified and reconstructed calciners and dryers at mineral processing plants that process or produce any of the following minerals and their concentrates or any mixture of which the majority is any of the following minerals or a combination of these minerals: Alumina, ball clay, bentonite, diatomite, feldspar, fire clay, fuller's earth, gypsum, industrial sand, kaolin, lightweight aggregate, magnesium compounds, perlite, roofing granules, talc, titanium dioxide, and vermiculite. There are several applicability exceptions. Feed and product conveyors are not considered part of the affected facility. Facilities subject to 40 CFR part 60, subpart LL, Metallic Mineral Processing Plants are not subject to this standard. There are additional processes and process units listed in the standard which are not subject to the provisions of this subpart.

Abstract: In the Administrator's judgement, particulate matter released from calciners and dryers cause or contribute to air pollution that may reasonably be anticipated to endanger public health or welfare. Owners or operators of the affected facilities must make one-time only reports including notifications of facility startup, scheduling and results of the initial performance test; notification of any physical or operational change to an existing facility which may increase the regulated pollutant emission rate; and notification of the demonstration of the continuous monitoring system (CMS). Owners or operators are also required to maintain records of the occurrence and duration of any startup, shutdown, or malfunction in the operation of an affected facility, or any period during which the monitoring system is inoperative. Performance tests are needed as these are the Agency's records of a source's initial capability to comply with emissions standards and note the operating conditions under which compliance was achieved.

The monitoring requirements are outlined in § 60.734 of the standard. They are dependant on the type of dryers or calciner. Specific calciners and dryers are required to install, calibrate, maintain, and operate a continuous monitoring system. Semiannual reports of excess emissions are required.

Burden Statement: In the previously approved ICR, the total annual burden to industry was estimated to be 6,019 hours. The total number of sources was estimated to be 155 and the total number of annual responses required by this regulation was estimated to be 310. The annual public reporting and recordkeeping burden for this collection of information was estimated to average 19 hours per response with a frequency of response estimated to be 2.0 responses per year. Approximately 5 new sources a year become subject to the standard.

In the previously approved ICR, the capital/startup costs to comply with this standard were estimated at $20,000. This was based on 5 new sources per year multiplied by $4,000 per monitoring device. The annual operations and maintenance cost (O&M) was estimated at $97,500. Therefore, the average annual burden for capital/startup and O&M cost were, therefore, estimated to be $117,500.

(9) NSPS Subpart VV: NSPS for volatile organic compounds (VOCs) in the Synthetic Chemical Manufacturing Industry (SOCMI)—40 CFR part 60, subpart VV; EPA ICR Number 0662.06; OMB Control Number 2060-0012; expiration date August 31, 2002.

Affected Entities: The standards at 40 CFR part 60, subpart VV apply to specific pieces of process unit equipment used in the synthetic organic chemicals manufacturing industry including pumps in light liquid service, compressors, pressure relief devices in gas/vapor service, sampling connection systems, open-ended valves or lines, valves in gas/vapor service and light liquid service, pumps and valves in heavy liquid service, pressure relief devices in light liquid or heavy liquid service and flanges and other connectors.

Abstract: In the Administrator's judgement emissions from process unit equipment used in the synthetic organic chemicals manufacturing industry cause or contribute to air pollution that may reasonably be anticipated to endanger public health or welfare. The standard requires owners or operators of the affected facilities to make the following one-time only reports: notification of the date of construction or reconstruction; notification of the anticipated and actual date of startup; notification of any physical or operational change to an existing facility which may increase the emission rate of any air pollutant to which the standard applies; and the unit identification and number of components subject to the standards. All semiannual reports are to include process unit identification, number of components leaking and not repaired, dates of process unit shutdowns and revisions to items submitted in the initial semiannual report. The source is also required to notify the Administrator of the election to use an alternative standard for valves ninety days before implementing the provision.

Burden: In the previous ICR, the hour burden for this ICR was estimated at 104,198 hours per year for 1120 respondents (1046 existing sources and 84 new sources). The number of annual responses was 2240. On average, each respondent must report 2.0 times per year with average time of 47 hours to prepare each response.

The annual cost burden is estimated to be $18,000 per year for the capital/startup purchase of monitors to perform fugitive monitoring. There are no ongoing O&M costs for these monitors.

(10) NSPS Subparts N and Na: NSPS for Iron and Steel Plants—Basic Oxygen Furnaces (Subparts N and Na); EPA ICR Number 1069.07; OMB Control Number 2060-0029; expiration date September 31, 2002.

Affected Entities: Entities potentially affected by this action are each basic oxygen process furnace (BOPF) in an iron and steel plant commencing construction, modification or reconstruction after the date of proposal of the standards at 40 CFR part 60, subpart N and any top-blown basic oxygen process furnace (BOPF), hot metal transfer station or skimming station for which construction, reconstruction, or modification commenced after the date of proposal of the standards at 40 CFR part 60, subpart Na.

Abstract: In the Administrator's judgement emissions from basic oxygen furnaces cause or contribute to air pollution that may reasonably be anticipated to endanger public health or welfare. Under 40 CFR part 60, subparts N and Na, sources are required to meet monitoring, recordkeeping and reporting requirements listed in the General Provisions (40 CFR part 60, subpart A). In addition, sources must maintain records of time and duration of each steel production cycle; time and duration of the rates or levels of any diversion of exhaust gases from the main stack; the various rates or levels of exhaust ventilation at each phase of the cycle through each duct of the secondary emission capture system; time and duration of the visible emission data sets; particulate matter concentration exiting the control device and discharge into the atmosphere; pressure loss through the venturi constriction of the scrubber continuously; and water supply pressure to the venturi scrubber control equipment continuously.

Sources are also required to provide one-time initial notifications; and to report, on a semiannual basis, on the initial performance test results and any monitoring results that average more than 10% below the average level maintained during the most recent performance test.

Burden Statement: For the previously approved ICR, the annual reporting and recordkeeping labor burden was 1,795 hours for 13 responses from 11 sources subject to the standard. This estimate was based on 11 existing BOPF shops since we assumed that of the 25 existing BOPF shops, only three of them were subject to subpart N because they were constructed after the date of proposal, and only 8 sources were subject to Subpart Na because they had modifications related to hot metal transfer stations and skimming stations that met the NSPS definition for reconstruction or modification. We assumed that one new source became subject to NSPS, subparts N and Na, within the three-year period. The frequency of the response except for initial requirements is semiannual and the average number of hours spent preparing each response is 136.

The total annualized cost burden over the three-year period in the previous ICR was estimated at $35,000. There are no capital/startup costs anticipated over the next three years because the Agency anticipates no new sources. However, annual operation and maintenance costs (O&M) for the monitoring equipment will, of course, continue. In the previously approved ICR, the O&M cost to the regulated entities was $17,400 per year.

(11) NSPS Subpart XX: NSPS for Bulk Gasoline Terminals (Subpart XX); EPA ICR Number 0664.07; OMB Number 2060-0006; expiration date September 30, 2002.

Affected Entities: Entities potentially affected by this action are those subject to the standards at 40 CFR Part 60, Subpart XX which includes the owners and operators of bulk gasoline terminals (BGTs) which deliver liquid products into gasoline tank trucks. A BGT is any gasoline facility which receives gasoline by pipeline, ship or barge, and has a gasoline throughput greater than 75,700 liters per day. The affected facility includes the loading arms, pumps, meters, shutoff valves, relief valves, and other piping and valves necessary to fill delivery tank trucks.

Abstract: The Agency has judged that volatile organic chemical emissions from BGTs cause or contribute to air pollution that may reasonably be anticipated to endanger public health or welfare. Owners or operators of BGTs must make the following one-time-only reports: notification of the date of construction or reconstruction; notification of the anticipated and actual dates of startup; notification of any physical or operational change to an existing facility which may increase the regulated pollutant emission rate; notification of the date of the initial performance test, and the results of the initial performance test.

Owners or operators are also required to maintain records of the occurrence and duration of any startup, shutdown, or malfunction in the operation of an affected facility.

Monitoring requirements specific to bulk gasoline terminals consist mainly of identifying and documenting vapor tightness for each gasoline tank truck that is loaded at the affected facility, and notifying the owner or operator of each tank truck that is not vapor tight. The owner or operator must also perform a monthly visual inspection for liquid or vapor leaks.

Burden Statement: In the previously approved ICR, the average annual burden to the industry to meet the recordkeeping and reporting requirements was estimated at 11,420 hours per year for 40 sources reporting annually. Therefore, the number of hours spent by the sources preparing each response was 286.

There are no capital/startup or operation and maintenance costs associated with this ICR.

(12) NSPS Subpart DDD: NSPS for the Polymer Manufacturing Industry (Subpart DDD); EPA ICR Number 1150.06; OMB Control Number 2060-0145; expiration date September 30, 2002.

Affected Entities: Entities potentially affected by this action are subject to the standards at 40 CFR part 60, subpart DDD which manufacture polypropylene, polystyrene or polyethylene terephthalate that commence construction, modification or reconstruction after January 10, 1989.

Abstract: The Agency has determined that emissions of volatile organic compounds from polymer manufacturing facilities cause or contribute to air pollution that may reasonably be anticipated to endanger public health or welfare.

Owners or operators of the affected facilities described must make the following one-time-only reports: notification of the date of construction or reconstruction; notification of the anticipated and actual dates of startup; notification of any physical or operational change to an existing facility which may increase the regulated pollutant emission rate; notification of the date of the initial performance test, and the results of the initial performance test. Owners or operators are also required to maintain records of the occurrence and duration of any startup, shutdown, or malfunction in the operation of an affected facility, or any period during which the monitoring system is inoperative. The standards require periodic recordkeeping to document process information relating to the sources' ability to meet the requirements of the standard and to note the operation conditions under which compliance was achieved. In addition, owners/operators of the affected facilities are required to record periods of operation during which the performance standards are exceeded, results of flare pilot flame monitoring, all periods of operation of a boiler or process heater, and to continuously record the indication of any emission stream diverted away from the control device.

Burden Statement: In the previously approved ICR, approximately 105 existing sources were assumed to be subject to the standard and an estimated additional 10 new sources were expected to become subject to the standard in each of the three years addressed by the ICR. The total number of annual responses was estimated to be 250 and the total annual hours to fulfill the recordkeeping and reporting requirements was 14,691. On average, each respondent must report 2.4 times per year and average of 59 hours was spent preparing each ICR. The total annual capital/startup cost was estimated at $30,000 and the estimated annual operation and maintenance cost was estimated at $735,000 for a total annual cost of $765,000.

(13) NESHAP-MACT Subpart YY: National Emission Standards for Hazardous Air Pollutants—Generic Maximum Achievable Control Technology Standards; EPA ICR Number 1871.03; OMB Control Number 2060-0420; expiration date September 30, 2002.

Affected Entities: Entities potentially affected by this action are those subject to the standards at 40 CFR part 63, subpart YY which produce acetal resins, acrylic and modacrylic fibers, hydrogen fluoride, and polycarbonate(s). The types of emission points regulated include storage vessels, process vents, transfer racks, and wastewater streams.

Abstract: The Agency has judged that hazardous air pollutant (HAP) emissions from the production of acetal resins (AR), acrylic and modacrylic fibers (AMF), hydrogen fluoride (HF), and polycarbonate(s) (PC) production cause or contribute to air pollution that may reasonably be anticipated to endanger public health or welfare. The EPA chose to regulate the AR production, AMF production, HF production, and PC production source categories under one Subpart to streamline the regulatory burden associated with the development of separate standardmaking packages. All of these source categories have five or fewer major sources and have similar emission points and MACT control requirements. This subpart is referred to as the “generic MACT standards—Subpart YY.”

The Subpart YY generic MACT standards contain generic compliance, recordkeeping, reporting, startup, shutdown, and malfunction provisions, and also identify source category-specific control, monitoring, recordkeeping, and reporting requirements for the regulated production source categories. Subpart YY also points affected sources to meet control, testing, monitoring, inspection, recordkeeping and reporting requirements contained in other generic MACT subparts depending upon the type of emission unit and the control option selected. For example, the provisions of subpart SS are invoked for sources using closed vent systems, control devices, recovery devices, and where emissions are routed to a fuel gas system or process. Subparts TT and UU apply to equipment leaks. Subpart WW contains control, recordkeeping, and reporting requirements for storage vessels. Recordkeeping and reporting burden associated with provisions of these other four generic subparts is accounted for in the subpart YY ICR for the generic MACT standards, as they apply to the AR production, AMF production, HF production, and PC production source categories.

Monitoring, inspection, recordkeeping, and reporting requirements are used to assure and document compliance with the emission standards. Monitoring, inspection, recordkeeping and reporting requirements are, where appropriate, based on monitoring, inspection, recordkeeping and reporting requirements used in standards for sources similar to those regulated under the generic MACT. Additionally, the generic MACT standards subpart cross-references §§ 63.1 through 63.5, and §§ 63.12 through 63.15 of the General Provisions for this part, and has pulled some of the regulatory text contained in §§ 63.6 through 63.11 into the standard.

As such, affected sources are required to submit applications for approval of construction or reconstruction, submit notification of initial startup, notification of compliance status, and periodic (semiannual reports), develop startup, shutdown, and malfunction plans, and submit startup, shutdown, and malfunction reports. Sources must keep records of information relating to their compliance status, such as calculations of emission rates, records of leak detection and repair, or records of control device operating parameters as monitored from continuous monitoring systems.

Affected sources must also keep records pertaining to their assessment of applicability. These include total resource effectiveness calculations, flow rate records, total organic compound or HAP concentration records, and process change records. In cases where there are overlapping requirements for storage vessels, process vents, equipment leaks, or wastewater control, the source may choose which subpart to meet. In these cases, sources report their selection in the Notification of Compliance Status.

Burden Statement: In the previously approved ICR, the average annual burden to the industry to meet the recordkeeping and reporting requirements was estimated at 6,125 hours per year. The hourly burden is based on 10 respondents and 89 annual responses. On the average, each respondent must report 8.9 times per year and spend an average of 69 hours preparing each response.

There are no annual capital/startup costs associated with this ICR and the annual operation and maintenance cost was estimated to be $1,800 per year.

(14) NSPS Subpart CC: NSPS for Glass Manufacturing Plants (40 CFR part 60, subpart CC); EPA ICR Number 1131.07; OMB Control Number 2060-0054; expiration date October 31, 2002.

Affected Entities: Entities potentially affected by this action are each glass melting furnace at a glass manufacturing plant subject to the standards at 40 CFR part 60, subpart CC. health or welfare. The standards do not apply to hand glass melting furnaces, glass melting furnaces designed to produce less than 4,550 kilograms of glass per day, or all-electric melters. Experimental furnaces are not subject to the emission standards.

Abstract: In the Administrator's judgement, particulate matter from glass manufacturing plants cause or contribute to air pollution that may reasonably be anticipated to endanger public. The standards set particulate matter emission limits. Owners or operators of the affected facilities must make initial reports when a source becomes subject; conduct and report on performance testing; demonstrate and report on continuous monitor performance; maintain records of the occurrence and duration of any startup, shutdown, or malfunction in the operation of an affected facility. Semiannual reports of excess emissions are required.

Burden Statement: In the previously approved ICR, approximately 30 sources were estimated to be subject to the standard. It was estimated that no additional sources would become subject to the standard. The average annual burden to industry from the recordkeeping and reporting requirements was estimated to be 398 hours. The total number of annual responses required by this regulation was estimated to be 61. Therefore, the frequency of response was estimated to be 2.0 responses per year and the annual public reporting and recordkeeping burden for this collection of information was estimated to average 6.5 hours per response.

The annual operations and maintenance cost was estimated at $174,000. This is based on 30 existing sources multiplied by $5,800 per years for upkeep of the monitoring device.

Dated: October 22, 2001.
Michael M. Stahl,
Director, Office of Compliance.

[FR Doc. 01-27110 Filed 10-26-01; 8:45 am]

BILLING CODE 6560-50-P